NATIONAL AERONAUTICS AND SPACE ADMINISTRATION

[Notice (19-007)]

Notice of Intent To Grant Partially Exclusive License

AGENCY: National Aeronautics and Space Administration.

ACTION: Notice of intent to grant partially exclusive patent license.

SUMMARY: NASA hereby gives notice of its intent to grant a partially exclusive patent license in the United States to practice the invention(s) described and claimed in U.S. Patent Application No. 15/014,608 entitled “Nuclear Thermionic Avalanche Cells with Thermoelectric (NTAC-TE) Generator in Tandem Mode,” NASA Case Number LAR-17981-1; U.S. Patent Application No. 15/995,467 entitled “Portable Compact Thermionic Power Cell,” NASA Case Number LAR-18860-1; U.S. Patent Application No. 15/479,679 entitled “Metallic Junction Thermoelectric Generator,” NASA Case Number LAR-18866-1; U.S. Patent Application No. 62/621,930 titled “Selective and Direct Deposition Technique for Streamlined CMOS Processing,” NASA Case Number LAR-18925-P2; U.S. Patent Application No. 62/643,292 entitled “Portable Miniaturized Thermionic Power Cell with Multiple Regenerative Layers,” NASA Case No. LAR-18926-P; U.S. Patent Application No. 62/643,303 entitled “High Performance Electric Generators Boosted by Nuclear Electron Avalanche (NEA),” NASA Case No. LAR-19112-P; U.S. Patent Application No. 62/642,198 entitled “Co-60 Breeding Reactor Tandem with Thermionic Avalanche Cell,” NASA Case No. LAR-18762-P; U.S. Patent Application No. 62/678,006 entitled “Multi-Layered Radio-Isotope for Enhanced Photoelectron Avalanche Process,” NASA Case No. LAR-19420-P to BlackRock Energy Corporation, having its principal place of business in Williamsburg, VA. The fields of use may be limited to mobile and/or transportable, as opposed to stationary (where stationary means permanently fixed and not capable of being moved), power/energy sources for United States Department of Defense (specifically the Army, Navy, Air Force, Marine Corps, and Coast Guard, as well as any future created Space Corps) applications, including but not limited to powering mobile and/or transportable high energy weaponry, including the weaponry's mode of transport (including but not limited to tanks, surface vessels, trucks, aircraft, Unmanned Underwater Vehicles (UUVs), Autonomous Underwater Vehicles (AUVs), and drones), high energy weapon platforms, and portable power stations for use at Forward Operating Bases (where Forward Operating Bases means airfields used to support tactical operations without establishing full support facilities). The licensed exclusive fields of use may exclude all other fields, including but not limited to any outer space applications intended for use beyond 400,000 feet above Earth's mean sea level. NASA has not yet made a determination to grant the requested license and may deny the requested license even if no objections are submitted within the comment period.

DATES: The prospective partially exclusive license may be granted unless NASA receives written objections, including evidence and argument no later than April 11, 2019 that establish that the grant of the license would not be consistent with the requirements regarding the licensing of federally owned inventions as set forth in the Bayh-Dohl Act and implementing regulations. Competing applications completed and received by NASA no later than April 11, 2019 will also be treated as objections to the grant of the contemplated partially exclusive license. Objections submitted in response to this notice will not be made available to the public for inspection and, to the extent permitted by law, will not be released under the Freedom of Information Act.

ADDRESSES: Objections relating to the prospective license may be submitted to Patent Counsel, Office of Chief Counsel, NASA Langley Research Center, MS 30, Hampton, Virginia 23681. Phone (757) 864-3221. Facsimile (757) 864-9190.

FOR FURTHER INFORMATION CONTACT: Jennifer L. Riley, Patent Attorney, Office of Chief Counsel, NASA Langley Research Center, MS 30, Hampton, Virginia 23681. Phone (757) 864-3221. Facsimile (757) 864-9190.

SUPPLEMENTARY INFORMATION: This notice of intent to grant a partially exclusive patent license is issued in accordance with 35 U.S.C. 209(e) and 37 CFR 404.7(a)(1)(i). The patent rights in these invention(s) have been assigned to the United States of America as represented by the Administrator of the National Aeronautics and Space Administration. The prospective partially exclusive license will comply with the requirements of 35 U.S.C. 209 and 37 CFR 404.7.

Information about other NASA inventions available for licensing can be found online at http://technology.nasa.gov.

Mark Dvorscak,
Agency Counsel for Intellectual Property.

[FR Doc. 2019-05778 Filed 3-26-19; 8:45 am]

BILLING CODE 7510-13-P